INTERNATIONAL TRADE COMMISSION

[Investigation No. 337-TA-1163]

Certain Light-Emitting Diode Products, Systems, and Components Thereof (I); Commission Determination Not To Review an Initial Determination Terminating the Investigation in Its Entirety; Termination of Investigation

AGENCY: U.S. International Trade Commission.

ACTION: Notice.

SUMMARY: Notice is hereby given that the U.S. International Trade Commission has determined not to review an initial determination (“ID”) (Order No. 16) of the presiding Administrative Law Judge (“ALJ”) terminating the above-captioned investigation. The investigation is terminated.

FOR FURTHER INFORMATION CONTACT: Michael Liberman, Esq., Office of the General Counsel, U.S. International Trade Commission, 500 E Street SW, Washington, DC 20436, telephone (202) 205-3115. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On June 25, 2019, the Commission instituted Inv. No. 337-TA-1163, Certain Light-Emitting Diode Products, Systems, and Components Thereof (I) under section 337 of the Tariff Act of 1930, as amended, 19 U.S.C. 1337 (“section 337”), based on a complaint filed by Lighting Science Group Corporation of Cocoa Beach, Florida; Healthe, Inc. of Cocoa Beach, Florida; and Global Value Lighting, LLC of West Warwick, Rhode Island (collectively, “Complainants”). 84 FR 29877-79 (June 25, 2019). The complaint, as amended, alleges a violation of section 337 by reason of infringement of certain claims of U.S. Patent Nos. 7,098,483; 7,095,053; 8,506,118 (“the '118 patent”); 7,528,421; 8,674,608; 8,201,968; and 8,967,844. The notice of investigation (“NOI”) names numerous respondents. The Commission's Office of Unfair Import Investigations was not named as a party. Id. at 29878. Subsequently, the complaint and NOI were amended to add allegations of infringement of claim 9 of the '118 patent against respondents MLS Co., Ltd. of Zhongshan City, China; LEDVANCE GmbH of Garching, Germany; LEDVANCE LLC of Wilmington, Massachusetts; Acuity Brands, Inc. of Atlanta, Georgia; and Acuity Brands Lighting, Inc. of Conyers, Georgia. 84 FR 55173-74 (Oct. 15, 2019). Furthermore, the investigation was terminated as to U.S. Patent No. 8,674,608 and respondents Leedarson Lighting Co., Ltd. and Leedarson America, Inc. Order No. 16 (non-reviewed October 28, 2019).

On October 8, 2019, Complainants filed an unopposed motion seeking to terminate this investigation in its entirety based on withdrawal of the complaint. See Mot. at 1-2.

On October 9, 2019, the ALJ issued the subject ID (Order No. 16) pursuant to 19 CFR 210.21(a), granting Complainants' motion. The ID finds that the motion for termination of this investigation based on withdrawal of the complaint complies with the Commission's Rules. ID at 1. The ID further finds that there are no extraordinary circumstances that warrant denying the motion. Id. at 2. No party petitioned for review of the ID, and the Commission has determined not to review the subject ID.

The investigation is terminated.

The authority for the Commission's determination is contained in section 337 of the Tariff Act of 1930, as amended, 19 U.S.C. 1337, and in Part 210 of the Commission's Rules of Practice and Procedure, 19 CFR part 210.

By order of the Commission.
Issued: October 29, 2019.
Lisa Barton,
Secretary to the Commission.

[FR Doc. 2019-23925 Filed 10-31-19; 8:45 am]

BILLING CODE 7020-02-P